DEPARTMENT OF HEALTH AND HUMAN SERVICES

National Committee on Vital and Health Statistics: Meeting Standards Subcommittee

Pursuant to the Federal Advisory Committee Act, the Department of Health and Human Services (HHS) announces the following advisory committee meeting.

Name: National Committee on Vital and Health Statistics (NCVHS) Subcommittee on Standards.

Time and Date: November 12, 2013 8:30 a.m.-5:30 p.m. EST.

Place: Centers for Disease Control and Prevention, National Center for Health Statistics, 3311 Toledo Road, Auditorium B & C, Hyattsville, Maryland 20782, (301) 458-4524.

Status: Open.

Purpose: The purpose of this hearing is to gather industry input on the state of health data standards used by public health and population health programs, and the scope of the meeting will include standards used for electronic exchange of information between public health and external stakeholders. This includes standards for data coding, document-type standards, message content, structure and format standards, transport, vocabulary and terminology, and data management standards across various public health functions and activities including but not limited to vital statistics, bio-surveillance, syndromic surveillance, screening, immunizations, public health laboratory, environmental health, and public health/population health analytics. Coding and classification systems for certain core public health data elements will be included.

The meeting will include an overview of where and how health data standards are used across public health functions, and the current status of public health data standards. The hearing will provide an opportunity for the Standards Subcommittee to hear from individuals representing public health data standards organizations, public health agencies, standards developers, and software/application vendors. Important work has been done in standard development organizations to advance the development of public health standards, and these developments will be highlighted in the discussion.

In addition, the Subcommittees on Population Health and Privacy, Confidentiality and Security will explore the need for convening a future hearing to focus on important considerations for standardized definitions of public health variables, privacy and security, population health management, and community health data, building on recent work by the Committee on health information standardization and community health data initiatives.

Contact Person for More Information: Marjorie S. Greenberg, Executive Secretary, NCVHS, National Center for Health Statistics, Centers for Disease Control and Prevention, 3311 Toledo Road, Room 2402, Hyattsville, Maryland 20782, telephone (301) 458-4245 or Kamahanahokulani Farrar, Centers for Medicare and Medicaid Services, Office of E-Health Standards and Services, 7500 Security Boulevard, Baltimore, Maryland 21244, telephone (410) 786-6711. Program information as well as summaries of meetings and a roster of committee members are available on the NCVHS home page of the HHS Web site: http://www.ncvhs.hhs.gov/, where further information including an agenda will be posted when available.

Should you require reasonable accommodation, please contact the CDC Office of Equal Employment Opportunity on (301) 458-4EEO (4336) as soon as possible.

Dated: October 22, 2013.
James Scanlon,
Deputy Assistant Secretary for Planning and Evaluation (Science and Data Policy), Office of the Assistant Secretary for Planning and Evaluation.

[FR Doc. 2013-25835 Filed 10-30-13; 8:45 am]

BILLING CODE 4151-05-P